NATIONAL SCIENCE FOUNDATION

Notice of Intent to Seek Approval to Establish an Information Collection

AGENCY: National Science Foundation.

ACTION: Notice and request for comments.

SUMMARY: The National Science Foundation (NSF) is announcing plans to request clearance of this collection. In accordance with the requirement of section 3506(c)(2)(A) of the Paperwork Reduction Act of 1995 (Pub. L. 104-13), we are providing opportunity for public comment on this action. After obtaining and considering public comment, NSF will prepare the submission requesting that OMB approve clearance of this collection for no longer than three years.

DATES: Written comments on this notice must be received by May 12, 2003 to be assured of consideration. Comments received after that date will be considered to the extent practicable.

FOR FURTHER INFORMATION OR COMMENTS: Contact Teresa R. Pierce, Reports Clearance Officer, National Science Foundation, 4201 Wilson Boulevard, Suite 295, Arlington, Virginia 22230; telephone (703) 292-7555; or sent email to tpierce@nsf.gov. Individuals who use a telecommunications device for the deaf (TDD) may call the Federal Information Relay Service (FIRS) at 1-800-877-8339 between 8 a.m. to 8 p.m., Eastern time, Monday through Friday. You also may obtain a copy of the data collection instrument and instructions from Ms. Pierce.

SUPPLEMENTARY INFORMATION:

Title of Collection: Survey of IGERT recipients.

OMB Number: 3145-NEW.

Expiration Date of Approval: Not applicable.

Type of Request: Intent to seek approval to establish an information collection.

Abstract

The Integrative Graduate Education and Research Traineeship (IGERT) program was initiated in 1997 and now comprises approximately 100 award sites. The IGERT program has been developed to meet the challenges of educating U.S. Ph.D. scientists, engineers, and educators with the interdisciplinary backgrounds, deep knowledge in chosen disciplines, and technical, professional, and personal skills to become in their own careers the leaders and creative agents for change. The program is intended to catalyze a cultural change in graduate education, for students, faculty, and institutions, by establishing innovative new models for graduate education and training in a fertile environment for collaborative research that transcends traditional disciplinary boundaries. It is also intended to facilitate greater diversity in student participation and preparation, and to contribute to the development of a diverse, globally-engaged science and engineering workforce. As part of this endeavor, IGERT awardees are expected to integrate instruction in ethics and the responsible conduct to research into their training programs. However, no mechanism is currently in place to determine (1) Whether such instruction occurs once the award is made, and (2) whether such instruction meets its goals. Thus, the NSF would like to survey IGERT recipients to answer the above questions.

Proposed Project

IGERT awardees will be invited, via email correspondence, to access a web-based survey document by a given date. This survey encompasses 22 questions, some with multiple parts, and is designed to assess the presence and relative strengths and weaknesses of any ethics training programs offered as part of the IGERT program at the awardee's institution.

Use of the Information: The results of the survey will be used to update Program Announcements and annual report requirements to reflect NSF's desire to promote the development of ethically trained scientists. Any additional reports developed with the survey results will be distributed to all IGERT awardees.

Estimate of Burden: 60 minutes per respondent, for 100 respondents, totaling 100 hours.

Respondents: Individuals.

Estimated Number of Responses per Report: 1.

Comments: Comments are invited on (a) Whether the proposed collection of information is necessary for the proper performance of the functions of the Agency, including whether the information shall have practical utility; (b) the accuracy of the Agency's estimate of the burden of the proposed collection of information; (c) ways to enhance the quality, utility, and clarity of the information on respondents, including through the use of automated collection techniques or other forms of information technology; and (d) ways to minimize the burden of the collection of information on those who are to respond, including through the use of appropriate automated, electronic, mechanical, or other technological collection techniques or other forms of information technology.

Dated: March 7, 2003.
Suzanne H. Plimpton,
Reports Clearance Officer, National Science Foundation.

[FR Doc. 03-5959 Filed 3-12-03; 8:45 am]

BILLING CODE 7555-01-M